DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 28, 2021 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Food Delivery Portal (FDP) Data Collection.

OMB Control Number: 0584-0401.

Summary of Collection: This is a revision of a currently approved information collection that was formerly titled “The Integrity Profile (TIP) Data Collection.” Under the Special Supplemental Nutrition Program for Women, Infants, and Children (WIC) program regulations at 7 CFR 246.12(j)(5), WIC State agencies are required to report annually on their vendor monitoring efforts. The data is used at the State agency level as a management tool and at the national level to provide Congress, the Office of the Inspector General, senior program managers, as well as the general public, assurances that program funds are being spent appropriately and that every reasonable effort is being made by State agencies to prevent, detect and eliminate fraud, waste, and abuse. This information was originally collected through The Integrity Profile (TIP) system via three automated forms: FNS-698 Profile of Integrity Practices and Procedures (PIPP) Report, FNS-699 The Integrity Profile (TIP) Report, and FNS-700 Vendor Record. The Food and Nutrition Service (FNS) is replacing TIP with an upgraded, web-based system called the Food Delivery Portal (FDP), which uses screens to collect the necessary data. FNS expects that WIC State agencies will start using the upgraded, web-based system in FY 2022.

Need and Use of the Information: This is a mandatory collection, and the respondents are WIC State agencies. The WIC State agencies provide information on their vendor training, compliance investigations, routine monitoring, and sanctions, which is reported annually to FNS. These reports will be generated through the new web-based FDP system (originally, they were generated through TIP). WIC State agencies review the reports to track and confirm that the data was reported accurately and to ensure compliance with Federal requirements, while FNS reviews the reports to ensure that WIC State agencies are in compliance with vendor regulations. FNS uses the data for Federal oversight of the WIC Program and to provide information on WIC State agency vendor management and vendor compliance to stakeholders, including Congress, USDA's Office of the Inspector General, outside auditors, researchers, and the general public.

Description of Respondents: State, Local, or Tribal Government.

Number of Respondents: 194.

Frequency of Responses: Reporting: Annually.

Total Burden Hours: 1,189.

Dated: September 23, 2021.
Ruth Brown,
Departmental Information Collection Clearance Officer.

[FR Doc. 2021-21051 Filed 9-27-21; 8:45 am]

BILLING CODE 3410-30-P